DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 17, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on September 9, 2019.
Donald P. Burger,
Chief, General Approvals and Permits Branch.

Application No. | Applicant | Regulation(s) affected | Nature of the special permits thereof
SPECIAL PERMITS DATA—Granted
10501-M | SEMI-BULK SYSTEMS, INC | 180.352(d) | To modify the special permit to authorize the repair of UN13L2 flexible IBCs with a larger capacity and different cross-sectional shape.
11054-M | WELKER, INC | 173.301(f)(2), 173.302a(a)(1), 173.304a(a)(1), 173.304a(d)(3)(i), 173.201(c), 173.202(c), 173.203(c), 177.840(a)(1) | To modify the special permit to authorize additional Class 3 and Division 2.2 gases.
12516-M | POLY-COAT SYSTEMS, INC | 107.503(b), 107.503(c), 173.241, 173.242 | To modify the special permit to remove the request to get authorization from the Approvals and Permits Division before modifying, stretching or re-barreling.
14641-M | CONOCOPHILLIPS ALASKA, INC | 172.101(j) | To modify the special permit to authorize an additional hazmat of a type already approved in the permit.
15130-M | SUNDANCE HELICOPTERS, INC | 172.101(j)(1), 175.30(a) | To modify the special permit to authorize additional Class 2 hazardous materials.
15552-M | POLY-COAT SYSTEMS, INC | 107.503(b), 107.503(c), 173.241, 173.242, 173.243 | To modify the special permit to remove the request to get authorization from the Approvals and Permits Division before modifying, stretching or re-barreling.
16172-M | ENTEGRIS, INC | 173.301(f) | To modify the special permit to authorize an additional hazmat.
16624-M | FRAMATOME INC | 173.301(a)(1), 173.302(a) | To modify the special permit to authorize non-DOT specification packaging for the safe containment of the compressed helium in certain of its non‐Class 7 nuclear fuel component products.
20571-M | CATALINA CYLINDERS, INC | 173.302a, 178.71(l)(1)(i), 178.71(l)(1)(ii) | To modify the special permit to authorize a 15 year service life from the cylinder's date of manufacture.
20798-N | AMERICASE, LLC | 173.185(a) | To authorize the manufacture, mark, sale, and use of certain 4G and 4B boxes for the transportation in commerce of prototype and low production lithium ion cells and batteries.
20835-N | AKZO NOBEL FUNCTIONAL CHEMICALS LLC | 178.337-8(a)(3), 178.337-8(a)(4) | To authorize the shipment of UN3394 and UN3399 metal alkyls in MC331 cargo tanks that house product inlet and discharge opening valves in a protective recessed well of the cargo tank.
20851-N | CALL2RECYCLE, INC | 172.200, 172.600, 172.700(a) | To authorize the manufacture, mark, sale, and use of certain UN Standard packagings for transporting end-of-life and/or used lithium ion cells and batteries and lithium ion batteries contained in equipment recycling.
20876-N | SODASTREAM USA INC | 178.71 | To authorize the transportation in commerce of UN pressure vessels that use alternative valve standards than are required by the HMR.
20883-M | DEPARTMENT OF DEFENSE US ARMY MILITARY SURFACE DEPLOYMENT & DISTRIBUTION COMMAND | 173.302(a), 175.3 | To modify the permit to authorize party status.
20898-N | Rivian Automotive, LLC | 172.101(j), 173.185(a), 173.185(b)(3)(i), 173.185(b)(3)(ii) | To authorize the transportation in commerce of prototype and low production lithium ion batteries and batteries contained in vehicles aboard cargo-only aircraft.
20899-N | CAIRE INC | 171.2(g), 172.203(a), 172.301(c), 173.22(a), 180.211(c)(2) | To authorize the repair of certain DOT 4L cylinders without requiring pressure testing.
20909-N | SMBC RAIL SERVICES LLC | 172.203(a), 172.302(c), 173.247 | To authorize the use of certain DOT 117 tank car tanks for the transportation in commerce of certain elevated temperature materials.
20915-N | ATLAS AIR, INC | 172.101(j), 172.204(c)(3), 173.27(b)(2), 173.27(b)(3) | To authorize the transportation of explosives forbidden for transport by air via cargo-only aircraft.
20922-N | Burgwedel Biotech GmbH | 173.199(b)(5) | To authorize the transportation in commerce of certain biohazard materials in amounts exceeding the amount authorized by the regulations.
SPECIAL PERMITS DATA—Denied
20857-N | SARTEN | 178.33a-7(a) | To authorize the manufacture, mark, sale, and use of non-DOT specification receptacles meeting the requirements of a DOT 2Q except that the minimum wall thickness is reduced.
20869-N | BALL METALPACK, LLC | 173.304a(d)(3)(ii) | To authorize the manufacture, mark, sale, and use of non-DOT specification inside containers for the transportation of certain Division 2.1 gases.
20882-N | STANLEY BLACK & DECKER, INC | 173.6(a)(1)(ii), 173.6(d) | To authorize the transportation in commerce of lithium ion batteries as materials of trade when each package has a gross mass exceeding 30 kg and the aggregate weight exceeds 200 kg.
SPECIAL PERMITS DATA—Withdrawn

[FR Doc. 2019-20044 Filed 9-16-19; 8:45 am]

BILLING CODE 4909-60-P